ENVIRONMENTAL PROTECTION AGENCY

[FRL-7907-4]

Science Advisory Board Staff Office, Clean Air Scientific Advisory Committee (CASAC), CASAC Particulate Matter Review Panel; Notification of Public Advisory Committee Meeting (Teleconference)

AGENCY: Environmental Protection Agency (EPA).

ACTION: Notice.

SUMMARY: The Environmental Protection Agency (EPA or Agency) Science Advisory Board (SAB) Staff Office announces a public teleconference of the Clean Air Scientific Advisory Committee (CASAS) Particulate Matter (PM) Review Panel (Panel) to review and approve the Panel's report from its April 6-7, 2005 meeting to conduct a peer review of the Agency's second draft PM Staff Paper and a related draft technical support document, the second draft PM Risk Assessment.

DATES: May 18, 2005. The teleconference meeting will be held on May 18, 2005, from 1 to 4 p.m. (eastern time).

FOR FURTHER INFORMATION CONTACT: Any member of the public who wishes to obtain the teleconference call-in numbers and access codes; would like to submit written or brief oral comments; or wants further information concerning this teleconference meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at: http://www.epa.gov/sab.

SUPPLEMENTARY INFORMATION: Summary: The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC PM Review Panel complies with the provisions of FACA and all appropriate SAB Staff Office procedural policies.

This teleconference meeting is a continuation of the CASAC PM Review Panel's peer review of the Review of the National Ambient Air Quality Standards for Particulate Matter: Policy Assessment of Scientific and Technical Information (second draft PM Staff Paper, January 2005); and a related draft technical support document, Particulate Matter Health Risk Assessment for Selected Urban Areas: Second Draft Report (second draft PM Risk Assessment, January 2005).

Background: Under section 108 of the CAA, the Agency is required to establish NAAQS for each pollutant for which EPA has issued criteria, including PM. Section 109(d) of the Act subsequently requires periodic review and, if appropriate, revision of existing air quality criteria to reflect advances in scientific knowledge on the effects of the pollutant on public health and welfare. EPA is also to revise the NAAQS, if appropriate, based on the revised criteria. The purpose of the second draft PM Staff Paper is to evaluate the policy implications of the key scientific and technical information contained in a related document, EPA's revised Air Quality Criteria Document (AQCD) for PM (October 2004), and to identify critical elements that EPA staff believes should be considered in the review of the PM NAAQS. The Staff Paper for PM is intended to “bridge the gap” between the scientific review contained in the PM AQCD and the public health and welfare policy judgments required of the Administrator in reviewing the PM NAAQS. The Agency's second draft PM Staff Paper and the second draft PM Risk Assessment were made available for public review and comment on January 31, 2005 by EPA's Office of Air Quality Planning and Standards (OAQPS), within the Office of Air and Radiation (OAR). Detailed summary information on these documents is contained in a previous EPA Federal Register notice (70 FR 5443, February 2, 2005).

Availability of Meeting Materials: The Panel's draft report from its review of the second draft PM Staff Paper and the second draft PM Risk Assessment will be posted on the SAB Web site at URL: http://www.epa.gov/sab/panels/casacpmpanel.html prior to this teleconference. In addition, a copy of the draft meeting agenda will be posted at: http://www.epa.gov/sab/agendas.htm in advance of this teleconference. The second draft PM Staff Paper and the second draft PM Risk Assessment can be accessed via EPA's Technology Transfer Network (TTN) Web site at: http://www.epa.gov/ttn/naaqs/standards/pm/s_pm_index.html under “Staff Papers” and “Technical Documents,” respectively. Any questions concerning the second draft Staff Paper and the second draft PM Risk Assessment should be directed to Dr. Mary Ross, OAQPS, at phone: (919) 541-5170, or e-mail: ross.mary@epa.gov.

Providing Oral or Written Comments at SAB Meetings: It is the policy of the SAB Staff Office to accept written public comments of any length, and to accommodate oral public comments whenever possible. The SAB Staff Office expects that public statements presented at its face-to-face meetings and teleconferences will not be repetitive of previously-submitted oral or written statements. Oral Comments: In general, each individual or group requesting an oral presentation at a CASAC meeting or teleconference is limited to a total time of five minutes (unless otherwise indicated). However, no more than 30 minutes total will be allotted for oral public comments at this teleconference; therefore, the time allowed for each speaker's comments will be adjusted accordingly. In addition, for scheduling purposes, requests to provide oral comments must be in writing (e-mail, fax or mail) and received by Mr. Butterfield no later than noon Eastern Time five business days prior to the meeting in order to reserve time on the meeting agenda. Written Comments: Although the SAB Staff Office accepts written comments until the date of the meeting (unless otherwise stated), written comments should be received in the SAB Staff Office no later than noon Eastern Time five business days prior to the meeting so that the comments may be made available to the CASAC PM Review Panel for their consideration. Comments should be supplied to Mr. Butterfield (preferably via e-mail) at the address/contact information noted above, as follows: one hard copy with original signature, and one electronic copy via e-mail (acceptable file format: Adobe Acrobat PDF, WordPerfect, MS Word, MS PowerPoint, or Rich Text files (in IBM-PC/Windows 98/2000/XP format).

Dated: April 25, 2005.
Vanessa T. Vu,
Director, EPA Science Advisory Board Staff Office.

[FR Doc. 05-8789 Filed 5-2-05; 8:45 am]

BILLING CODE 6560-50-M